DEPARTMENT OF LABOR

Office of the Secretary

Agency Information Collection Activities; Submission for OMB Review; Comment Request; Application for Permanent Employment Certification

ACTION: Notice of availability; request for comments.

SUMMARY: The Department of Labor (DOL) is submitting the Employment and Training Administration (ETA) sponsored information collection request (ICR) titled, “Application for Permanent Employment Certification,” to the Office of Management and Budget (OMB) for review and approval for continued use, without change, in accordance with the Paperwork Reduction Act (PRA) of 1995. Public comments on the ICR are invited.

DATES: The OMB will consider all written comments that agency receives on or before January 5, 2018.

ADDRESSES: A copy of this ICR with applicable supporting documentation; including a description of the likely respondents, proposed frequency of response, and estimated total burden may be obtained free of charge from the RegInfo.gov Web site at http://www.reginfo.gov/public/do/PRAViewICR?ref_nbr=201711-1205-002 (this link will only become active on the day following publication of this notice) or by contacting Michel Smyth by telephone at 202-693-4129, TTY 202-693-8064, (these are not toll-free numbers) or sending an email to DOL_PRA_PUBLIC@dol.gov.

Submit comments about this request by mail to the Office of Information and Regulatory Affairs, Attn: OMB Desk Officer for DOL-ETA, Office of Management and Budget, Room 10235, 725 17th Street NW., Washington, DC 20503; by Fax: 202-395-5806 (this is not a toll-free number); or by email: OIRA_submission@omb.eop.gov. Commenters are encouraged, but not required, to send a courtesy copy of any comments by mail or courier to the U.S. Department of Labor-OASAM, Office of the Chief Information Officer, Attn: Departmental Information Compliance Management Program, Room N1301, 200 Constitution Avenue NW., Washington, DC 20210; or by email: DOL_PRA_PUBLIC@dol.gov.

FOR FURTHER INFORMATION CONTACT: Michel Smyth by telephone at 202-693-4129, TTY 202-693-8064, (these are not toll-free numbers) or sending an email to DOL_PRA_PUBLIC@dol.gov.

SUPPLEMENTARY INFORMATION: This ICR seeks to extend PRA approval for the Application for Permanent Employment Certification (Form ETA-9089) information collection. Form ETA-9089 is used in the DOL's permanent employment-based immigration program by employers seeking certification to hire foreign workers to perform permanent work in the United States. Immigration and Nationality Act (INA) section 212(a)(5)(A), 8 U.S.C 1182(a)(5)(A), requires the Secretary of Labor to certify that any foreign worker seeking to enter the United States for the purpose of performing skilled or unskilled labor will not adversely affect the wages and working conditions of U.S. workers similarly employed and that there are not sufficient U.S. workers able, willing, and qualified to perform such labor. The DOL uses Form ETA-9089 to collect information about a sponsoring employer's job offer and about a foreign national's education and work history. This information is necessary to determine whether the admission of that foreign national meets the requirements for certification under section 212(a)(5)(A). Employers seeking to sponsor workers as sheepherders or in Schedule A occupations file Form ETA-9089 directly with the Department of Homeland Security (DHS). The DHS also accepts ETA Form 9089 in place of the ETA-750 in its National Interest Waiver program. INA sections 203(b) and 212(a)(5)(A) authorize this information collection. See 8 U.S.C. 1153(b), 1182(a)(5)(A).

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information that does not display a valid Control Number. See 5 CFR 1320.5(a) and 1320.6. The DOL obtains OMB approval for this information collection under Control Number 1205-0451.

OMB authorization for an ICR cannot be for more than three (3) years without renewal, and the DOL seeks to extend PRA authorization for this information collection for three (3) more years without any change to existing requirements. The DOL notes that existing information collection requirements submitted to the OMB receive a month-to-month extension while they undergo review. For additional substantive information about this ICR, see the related notice published in the Federal Register on August 28, 2017 (82 FR 40807).

Interested parties are encouraged to send comments to the OMB, Office of Information and Regulatory Affairs at the address shown in the ADDRESSES section within thirty (30) days of publication of this notice in the Federal Register. In order to help ensure appropriate consideration, comments should mention OMB Control Number 1205-0451. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-ETA.

Title of Collection: Application for Permanent Employment Certification.

OMB Control Number: 1205-0451.

Affected Public: Individuals or Households; Federal Government; State, Local, and Tribal governments; Private Sector—businesses or other for-profit entities, not-for-profit institutions, and farms.

Total Estimated Number of Respondents: 113,304.

Total Estimated Number of Responses: 113,304.

Total Estimated Annual Time Burden: 227,118 hours.

Total Estimated Annual Other Costs Burden: $18,769,032.

Authority: 44 U.S.C. 3507(a)(1)(D).

Dated: November 30, 2017.
Michel Smyth,
Departmental Clearance Officer.

[FR Doc. 2017-26263 Filed 12-5-17; 8:45 am]

BILLING CODE 4510-FP-P